DEPARTMENT OF AGRICULTURE

Forest Service

Del Norte Resource Advisory Committee (RAC)

AGENCY: Forest Service, USDA.

ACTION: Notice of meeting.

SUMMARY: The Del Norte Resource Advisory Committee (RAC) will meet in Crescent City, California. The committee meeting is authorized under the Secure Rural Schools and Community Self-Determination (SRS) Act (Pub. L. 110-343) and in compliance with the Federal Advisory Committee Act.

DATES: The meeting will be held September 27 and 28, 2010, from 6 p.m. to 8:30 p.m.

ADDRESSES: The meeting will be held at the Del Norte County Unified School District, Board Room, 301 West Washington Boulevard, Crescent City, California 95531.

FOR FURTHER INFORMATION CONTACT: Julie Ranieri, Committee Coordinator, Six Rivers National Forest, at (707) 441-3673; e-mail jranieri@fs.fed.us.

SUPPLEMENTARY INFORMATION: The meeting is open to the public. The public will present their Title II Project Proposals to the RAC. Public input opportunity will be provided and individuals will have the opportunity to address the Committee at that time.

Dated: Sept. 7, 2010.
Tyrone Kelley,
Forest Supervisor.

[FR Doc. 2010-22816 Filed 9-13-10; 8:45 am]

BILLING CODE 3410-11-P